DEPARTMENT OF THE INTERIOR

National Park Service

[NPS-WASO-NRNHL-DTS #20494; PPWOCRADI0, PCU00RP14.R50000]

National Register of Historic Places; Notification of Pending Nominations and Related Actions

AGENCY: National Park Service, Interior.

ACTION: Notice.

SUMMARY: The National Park Service is soliciting comments on the significance of properties nominated before [insert date for this batch], for listing or related actions in the National Register of Historic Places.

DATES: Comments should be submitted by April 12, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before [insert date for this batch]. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

CALIFORNIA

Alameda County

Alameda County Building and Loan Association Building, 1601—1605 Clay St., Oakland, 16000152

Yolo County

TB—9, SW corner of Old Davis Rd. and Hutchinson Dr., University of California, Davis, Davis, 16000153

COLORADO

Larimer County

Warren Livestock Company, Graves Camp Rural Historic District, Five miles west of I-25 just south of the Colorado-Wyoming state line, in far northeastern Larimer County, Wellington, 16000155

Park County

Guiraud—McDowell Ranch, Highway 9, Garo, 16000154

MASSACHUSETTS

Bristol County

Lowney Chocolate Factory, 150 Oakland St., Mansfield, 16000156

Worcester County

First Baptist Church of Northborough, 52 Main St., Northborough, 16000157

MINNESOTA

Todd County

Bridge No. L7075, 290th St. over Turtle Creek, 0.1 mi. east of CSAH 25 in Hartford Township, Browerville, 16000158

NEBRASKA

Douglas County

North 24th and Lake Streets Historic District, North 24th St. between Ohio St. and Patrick Ave., Lake St. between 26th and 22th Sts., Omaha, 16000159

NEW MEXICO

Bernalillo County

Vista Larga Residential Historic District, Roughly bounded by Indian School Rd., Columbia Dr., Hannett Ave., and University of New Mexico North Golf Course, Albuquerque, 16000160

Dona Ana County

Mesilla Park Historic District, Bounded by Bowman St., Union and University Aves., and Park Drain, Las Cruces, 16000161

Socorro County

San Miguel Church, (El Camino Real de Tierra Adentro MPS (AD)) 403 El Camino Real St., NW., Socorro, 16000162

NEW YORK

Monroe County

Pittsford Village Historic District (Boundary Increase), High, Church, Grove, Line, Locust, Maple, N. & S. Main, State, Sutherland, Wood Sts., Boughton, E. Jefferson, Golf, Rand Rds., Pittsford, 16000163

Warren County

Caldwell Presbyterian Church, 71 Montcalm St., Lake George, 16000164

TENNESSEE

Anderson County

Norris Hydroelectric Project, 300 Powerhouse Way, Norris, 16000165

VIRGINIA

Charles City County

Dancing Point, Address Restricted, Charles City, 16000166

A request to move has been received for the following resource:

KENTUCKY,

Fayette County

Peoples Federal Savings and Loan, 343 S. Broadway, Lexington, 15000650

Authority: 60.13 of 36 CFR part 60

Dated: March 3, 2016.
J. Paul Loether,
Chief, National Register of Historic Places/National Historic Landmarks Program.

[FR Doc. 2016-06931 Filed 3-25-16; 8:45 am]

BILLING CODE 4312-51-P